DEPARTMENT OF TRANSPORTATION

Surface Transportation Board

[STB Docket No. MC-F-20995]

Peter Pan Bus Lines Trust—Purchase and Acquisition of Control—Arrow Acquisition, LLC, Bonanza Acquisition, LLC, Maine Line, LLC, Pawtuxet Valley, LLC, Peter Pan Boston, LLC, and Peter Pan Bus Lines, Inc.

AGENCY: Surface Transportation Board.

ACTION: Notice Tentatively Approving Finance Transaction.

SUMMARY: In an application filed under 49 U.S.C. 14303, Peter Pan Bus Lines Trust (Peter Pan Trust), a noncarrier, seeks to purchase, through its newly formed limited liability companies—Arrow Line Acquisition, LLC (Arrow), Bonanza Acquisition, LLC (Bonanza), Maine Line, LLC (Maine), Pawtuxet Valley, LLC (Pawtuxet), and Peter Pan Boston, LLC (Peter Pan Boston)—the operating properties of five motor passenger carriers ¹ and thereupon to control these five carriers as well as Peter Pan Bus Lines, Inc. (Peter Pan), a motor passenger carrier. Persons wishing to oppose the application must follow the rules at 49 CFR 1182.5 and 1182.8. The Board has tentatively approved the transaction, and, if no opposing comments are timely filed, this notice will be the final Board action.

¹ The five motor passenger carriers being acquired are currently controlled by Coach USA, Inc. They are: The Arrow Line, Inc. (MC-1934), Bonanza Bus Lines, Inc. (MC-13028), Brunswick Transportation, Inc., d/b/a The Maine Line (MC-109495), Mini Coach of Boston, Inc. (MC-231090, and Pawtuxet Valley Coach Line, Inc. (MC-115432).

DATES: Comments must be filed by February 10, 2003. Applicant may file a reply by February 25, 2003. If no comments are filed by February 10, 2003, the approval is effective on that date.²

² In its application, Peter Pan Trust requests expedited handling of the application and requests that the Board publish its notice within 15 days to enable the parties to achieve and recognize the substantial business benefits of their transaction as soon as possible, and to minimize the ownership transition period between the agreement to acquire the assets and regulatory approval.

ADDRESSES: Send an original and 10 copies of any comments referring to STB Docket No. MC-F-20995 to: Surface Transportation Board, 1925 K Street, NW., Washington, DC 20423-0001. In addition, send one copy of any comments to applicants' representatives: Jeremy Kahn, Kahn and Kahn, 1730 Rhode Island Avenue, NW., Suite 810, Washington, DC 20036; and David H. Coburn, Steptoe & Johnson, LLP, 1330 Connecticut Avenue, NW., Washington, DC 20036.

FOR FURTHER INFORMATION CONTACT: Beryl Gordon, (202) 565-1600. [Federal Information Relay Service (FIRS) for the hearing impaired: 1-800-877-8389.]

SUPPLEMENTARY INFORMATION: Peter Pan Trust is a Massachusetts Business Trust, whose only asset is the stock of Peter Pan, a motor passenger carrier that holds federally issued operating authority in Docket No. MC-61016.

Applicants state that Peter Pan recently formed Arrow, Bonanza, Maine, Pawtuxet, and Peter Pan Boston and that these newly formed companies, together with Peter Pan, are parties to an asset purchase transaction in which the parties will acquire the motor coaches and other assets, including the operating authorities, of the five Coach-controlled carriers.³ According to applicants, each of the companies will operate assets being acquired from these carriers. Applicants state that none of these newly formed acquiring companies had any operating revenues at the time of the filing of this application.

³ Arrow will operate the assets of Arrow Line, Inc.; Bonanza will operate the assets of Bonanza Bus Lines, Inc.; Maine will operate the assets of Brunswick Transportation, Inc., d/b/a The Maine Line; Pawtuxet will operate the assets of Pawtuxet Valley Coach Line, Inc.; and Peter Pan Boston will operate the assets of Mini Coach of Boston, Inc.

Applicants state that each of the five newly formed acquiring companies recently applied for certain federal operating authority from the Federal Motor Carrier Safety Administration (FMCSA).⁴ Each new carrier will acquire the FMCSA authority of the corresponding acquired carrier, to the extent not included in the pending FMCSA applications, and, with the exception of Pawtuxet, they will acquire the intrastate operating authority of each corresponding carrier.

⁴ Applicants state that these newly formed companies filed applications for authority with FMCSA on November 10, 2002. All five applications seek charter and special operations authority. Bonanza and Peter Pan Boston also seek certain regular route authority, generally between Boston and New York. The assigned motor carrier docket numbers for the newly formed companies are: MC-448294 for Arrow; MC-448481 for Bonanza; MC-448293 for Maine; MC-448292 for Pawtuxet; and MC-448482 for Peter Pan Boston.

Under 49 U.S.C. 14303(b), we must approve and authorize a transaction we find consistent with the public interest, taking into consideration at least: (1) the effect of the transaction on the adequacy of transportation to the public; (2) the total fixed charges that result; and (3) the interest of affected carrier employees.

Applicants have submitted the information required by 49 CFR 1182.2, including information to demonstrate that the proposed transaction is consistent with the public interest under 49 U.S.C. 14303(b). Specifically, applicants have shown that the proposed transaction will have a positive effect on the adequacy of transportation to the public and will result in no increase in fixed charges and no changes in employment. See 49 CFR 1182.2(a)(7). Additional information may be obtained from applicants' representatives.

On the basis of the application, we find that the proposed transaction is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our Web site at “http://www.stb.dot.gov.”

This decision will not significantly affect either the quality of the human environment or the conservation of energy resources.

It is ordered:

1. The proposed purchase and acquisition of control is approved and authorized, subject to the filing of opposing comments.

2. If timely opposing comments are filed, the findings made in this decision will be deemed vacated.

3. This decision will be effective on February 10, 2003, unless timely opposing comments are filed.

4. A copy of this notice will be served on: (1) The U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW, Washington, DC 20590.

Decided: December 19, 2002.
By the Board, Chairman Nober, Vice Chairman Burkes, and Commissioner Morgan.
Vernon A. Williams,
Secretary.

[FR Doc. 02-32568 Filed 12-26-02; 8:45 am]

BILLING CODE 4915-00-P